ENVIRONMENTAL PROTECTION AGENCY

[EPA-HQ-OAR-2009-0022; FRL 9524-4]

Information Collection Request Submitted to OMB for Review and Approval; Comment Request; Acid Rain Program Under Title IV of the Clean Air Act Amendments (Renewal)

AGENCY: Environmental Protection Agency (EPA).

ACTION: Notice.

SUMMARY: The Environmental Protection Agency has submitted an information collection request (ICR), Acid Rain Program under Title IV of the Clean Air Act Amendments (Renewal) (EPA ICR No. 1633.16, OMB Control No. 2060-0258) to the Office of Management and Budget (OMB) for review and approval in accordance with the Paperwork Reduction Act (44 U.S.C. 3501 et seq.). This is a proposed extension of the ICR, which is currently approved through November 30, 2012. Public comments were previously requested via the Federal Register (77 FR 4066) on July 10, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before December 27, 2012.

ADDRESSES: Submit your comments, referencing Docket ID Number EPA-HQ-OAR-2009-0022, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Karen VanSickle, Clean Air Markets Division, Office of Air and Radiation, (6204J), Environmental Protection Agency, 1200 Pennsylvania Ave. NW., Washington, DC 20460; telephone number: 202-343-9220; fax number: 202-343-2361; email address: vansickle.karen@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: The Acid Rain Program was established under Title IV of the 1990 Clean Air Act Amendments. The program calls for major reductions of the pollutants that cause acid rain while establishing a new approach to environmental management. This information collection is necessary to implement the Acid Rain Program. It includes burden hours associated with developing and modifying permits, transferring allowances, obtaining allowances from the conservation and renewable energy reserve, monitoring emissions, participating in the annual auctions, completing annual compliance certifications, participating in the Opt-in program, and complying with NOX permitting requirements.

Form Numbers: 7610-1, 7610-5, 7610-6, 7610-7A, 7610-8, 7610-11, 7610-16, 7610-19, 7610-20, 7610-26, 7610-27, 7610-28, 7610-29, 7620-4, 7620-8, 7620-9, 7620-10, and 5900-172.

Respondents/affected entities: Electric utilities, Industrial sources, and other persons.

Respondent's obligation to respond: Mandatory and voluntary under provisions of Title IV of the Clean Air Act Amendments that cover:

• Allowance tracking and transfers (section 403);

• Permits (section 408);

• Emissions monitoring (section 412);

• Auctions (section 416);

• Opt-in (section 410 a-g); and

• NOX permitting (section 407).

Estimated number of respondents: 1700.

Frequency of response: On occasion, quarterly, and annually.

Total estimated burden: 2,123,405 hours (per year). Burden is defined at 5 CFR 1320.03(b).

Total estimated cost: $302,368,573.05 (per year), includes $152,015,161 annualized capital or operation & maintenance costs.

Changes in the Estimates: There is an increase of 66,459 hours in the total estimated respondent burden compared with the ICR currently approved by OMB. Most of the change in burden for this collection is due to adjustments. Adjustments stem from actions outside the Agency's control. Adjustments include changes to the number of responses and the time it takes to respond to a particular activity. Some new estimates for the number of responses are based on queries of EPA databases for activities reported in recent years. In addition to adjustments, a portion of the overall increase is due to the incorporation of ARP affection portion of the Protocol Gas Verification Program and Air Emissions Protocol Testing Body ICR requirements from the EPA ICR Number 2203.04, OMB Control Number 2060-0626.

John Moses,
Director, Collection Strategies Division.

[FR Doc. 2012-28651 Filed 11-26-12; 8:45 am]

BILLING CODE 6560-50-P